ENVIRONMENTAL PROTECTION AGENCY

[EPA-HQ-RCRA-2005-0016; FRL-8166-6 ]

Agency Information Collection Activities; Submission to OMB for Review and Approval; Comment Request; Reporting Requirements Under EPA's National Partnership for Environmental Priorities (Renewal), EPA ICR Number 2076.02, OMB Control Number 2050-0190

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on April 30, 2006. Under OMB regulations, the Agency may continue to conduct or sponsor the collection of information while this submission is pending at OMB. This ICR describes the nature of the information collection and its estimated burden and cost.

DATES: Additional comments may be submitted on or before June 5, 2006.

ADDRESSES: Submit your comments, referencing docket ID number EPA-HQ-RCRA-2005-0016, to (1) EPA online using http://www.regulations.gov (our preferred method), or by mail to: RCRA Docket (5305T), U.S. Environmental Protection Agency, 1200 Pennsylvania Avenue, NW, Washington, DC 20460; and (2) OMB by mail to: Office of Information and Regulatory Affairs, Office of Management and Budget (OMB), Attention: Desk Officer for EPA, 725 17th Street, NW, Washington, DC 20503.

FOR FURTHER INFORMATION CONTACT: Newman Smith, Office of Solid Waste (5302W), Environmental Protection Agency, 1200 Pennsylvania Ave., NW, Washington, DC 20460; telephone number: 703-308-8757; fax number: 703-308-8433; e-mail address: smith.newman@epa.gov.

SUPPLEMENTARY INFORMATION: EPA has submitted the following ICR to OMB for review and approval according to the procedures prescribed in 5 CFR 1320.12. On December 20, 2005 (70 FR 75457), EPA sought comments on this ICR pursuant to 5 CFR 1320.8(d). EPA received no comments. Any additional comments on this ICR should be submitted to EPA and OMB within 30 days of this notice.

EPA has established a public docket for this ICR under Docket ID No. EPA-HQ-RCRA-2005-0016, which is available for online viewing at http://www.regulations.gov, or in person viewing at the RCRA Docket in the EPA Docket Center (EPA/DC), EPA West, Room B102, 1301 Constitution Ave., NW, Washington, DC. The EPA/DC Public Reading Room is open from 8 a.m. to 4:30 p.m., Monday through Friday, excluding legal holidays. The telephone number for the Reading Room is 202-566-1744, and the telephone number for RCRA Docket is (202) 566-0270.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Reporting Requirements Under EPA's National Partnership For Environmental Priorities (Renewal)

ICR Numbers: EPA ICR No. 2076.02, OMB Control No. 2050-0190

ICR Status: This ICR is currently scheduled to expire on April 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA currently has an ongoing national program that, through source reduction, reuse, and recycling, encourages a reduction in use or the minimization of release of hazardous chemicals. Participation in the National Partnership for Environmental Priorities (NPEP) (previously the National Waste Minimization Partnership Program) is completely voluntary. Participation begins when the Enrollment Form is submitted and accepted by EPA. The form asks for basic site identification information as well as information on the company's chemical reduction goals under the program.

Once in the program, partners will also have an opportunity to complete and submit a Success Story when they have accomplished steps toward reaching the goal(s) established during their enrollment in the program. The Success Story also serves as the application for the NPEP Achievement Award. These Success Stories will be available on EPA's National Waste Minimization Program website. Each success story will describe a partner's waste minimization techniques, implementation problems, lessons learned, benefits, and relevant implications. These forms will enable the Agency to establish a partner's progress and the overall success of the program. They will also allow the Agency to recognize partner accomplishments in a formal manner, if appropriate (e.g., at a recognition ceremony or by congratulatory letter).

Burden Statement: The annual public reporting burden for this collection of information is estimated to average 16 hours per response for the Enrollment Form and 9 hours per response for the Success Stories. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those which generate, store, and treat hazardous waste.

Estimated Number of Respondents: 163.

Frequency of Response: On occasion.

Estimated Total Annual Hour Burden: 642.

Estimated Total Annual Cost: $0.

Changes in the Estimates: There is a decrease of 2,593 hours in the total estimated burden currently identified in the OMB Inventory of Approved ICR Burdens. The reason for the decrease is because in the original ICR EPA overestimated the number of partners that would be enrolled in the program. EPA also overestimated the amount of time it would take an enrollee to fill out and submit the enrollment form. For this renewal, EPA was able to canvas partners for more realistic burden estimates.

Dated: April 24, 2006.
Oscar Morales,
Director, Collection Strategies Division.

[FR Doc. E6-6749 Filed 5-3-06; 8:45 am]

BILLING CODE 6560-50-P